DEPARTMENT OF ENERGY

Federal Energy Regulatory Commission

Combined Notice of Filings #1

Take notice that the Commission received the following electric rate filings:

Docket Numbers: ER10-2011-005; ER10-2016-003; ER10-2008-002; ER10-2009-002.

Applicants: PPL Montana, LLC, PPL EnergyPlus, LLC, PPL Colstrip I, LLC, PPL Colstrip II, LLC.

Description: Supplement to December 31, 2013 Triennial Market-Based Rate Update of the PPL Northwest Companies.

Filed Date: 3/19/14.

Accession Number: 20140319-5071.

Comments Due: 5 p.m. ET 4/30/14.

Docket Numbers: ER10-2132-005.

Applicants: Willow Creek Energy LLC.

Description: Supplement to December 30, 2013 Triennial Report of Willow Creek Energy LLC.

Filed Date: 3/24/14.

Accession Number: 20140324-5132.

Comments Due: 5 p.m. ET 4/30/14.

Docket Numbers: ER10-2331-023; ER10-2343-021; ER10-2326-022; ER10-2330-022.

Applicants: J.P. Morgan Ventures Energy Corporation, J.P. Morgan Commodities Canada Corporation, Cedar Brakes I, L.L.C., Utility Contract Funding, L.L.C.

Description: Supplement to December 23, 2013 Updated Triennial Market Analysis for the Northwest Region of The JPMorgan Sellers.

Filed Date: 3/26/14.

Accession Number: 20140326-5015.

Comments Due: 5 p.m. ET 4/30/14.

Docket Numbers: ER10-2465-002; ER11-2657-003; ER12-1308-003; ER10-2464-002; ER13-1585-002.

Applicants: Milford Wind Corridor Phase I, LLC, Milford Wind Corridor Phase II, LLC, Palouse Wind, LLC, First Wind Energy Marketing, LLC, Longfellow Wind, LLC.

Description: Amending December 23, 2013 Market Power Update Analysis for Northwest Region of Milford Wind Corridor Phase I, LLC, et. al.

Filed Date: 2/3/14.

Accession Number: 20140203-5141.

Comments Due: 5 p.m. ET 4/30/14.

Docket Numbers: ER12-1564-001.

Applicants: Midcontinent Independent System Operator, Inc.

Description: 2014-04-08_MVP Compliance Filing Supplement to be effective N/A.

Filed Date: 4/8/14.

Accession Number: 20140408-5141.

Comments Due: 5 p.m. ET 4/29/14.

Docket Numbers: ER14-1488-000; ER14-1489-000; ER14-1490-000; ER14-1491-000; ER14-1492-000; ER14-1494-000; ER14-1495-000; ER14-1497-000; ER14-1500-000; ER14-1501-000; ER14-1502-000; ER14-1503-000.

Applicants: Diablo Winds, LLC, FPL Energy Cabazon Wind, LLC, FPL Energy Green Power Wind, LLC, FPL Energy Montezuma Wind, LLC, FPL Energy New Mexico Wind, LLC, Hatch Solar Energy Center I, LLC, High Winds, LLC, NextEra Energy Montezuma II Wind, LLC, Red Mesa Wind, LLC, Sky River LLC, Vasco Winds, LLC, Windpower Partners 1993.

Description: Amendment to the March 14, 2014 and March 21, 2014 NextEra Companies tariff Order No. 784 Compliance Filings.

Filed Date: 4/8/14.

Accession Number: 20140408-5216.

Comments Due: 5 p.m. ET 4/18/14.

Docket Numbers: ER14-1448-001.

Applicants: ISO New England Inc.

Description: Compliance filing on ER14-1448-000 to be effective 3/7/2014.

Filed Date: 4/9/14.

Accession Number: 20140409-5036.

Comments Due: 5 p.m. ET 4/30/14.

Docket Numbers: ER14-1683-000.

Applicants: Midcontinent Independent System Operator, Inc.

Description: 2014-04-08_SA 2649 Geronimo-ITC GIA (J281 J282) to be effective 4/9/2014.

Filed Date: 4/8/14.

Accession Number: 20140408-5183.

Comments Due: 5 p.m. ET 4/29/14.

Docket Numbers: ER14-1684-000.

Applicants: Midcontinent Independent System Operator, Inc.

Description: Midwest Independent Transmission System Operator, Inc. submits Notice of Termination of Multi-Party Facilities Construction Agreement No. 2252 for Project H062 and H074.

Filed Date: 4/8/14.

Accession Number: 20140408-5211.

Comments Due: 5 p.m. ET 4/29/14.

Docket Numbers: ER14-1685-000.

Applicants: Duke Energy Florida, Inc.

Description: Joint OATT Real Power Loss (2014) to be effective 5/1/2014.

Filed Date: 4/9/14.

Accession Number: 20140409-5046.

Comments Due: 5 p.m. ET 4/30/14.

Docket Numbers: ER14-1686-000.

Applicants: National Grid USA.

Description: Request for Limited Tariff Waiver of National Grid USA on behalf of New England Power Company.

Filed Date: 4/8/14.

Accession Number: 20140408-5214.

Comments Due: 5 p.m. ET 4/29/14.

Docket Numbers: ER14-1687-000.

Applicants: National Grid USA.

Description: Request for Limited Tariff Waiver of National Grid USA on behalf of Niagara Mohawk Power Corporation.

Filed Date: 4/8/14.

Accession Number: 20140408-5215.

Comments Due: 5 p.m. ET 4/29/14.

Docket Numbers: ER14-1688-000.

Applicants: Wisconsin Public Service Corporation.

Description: WPSC Distribution Interconnection Agreement with NE.W. Hydro to be effective 7/1/2013.

Filed Date: 4/9/14.

Accession Number: 20140409-5084.

Comments Due: 5 p.m. ET 4/30/14.

Docket Numbers: ER14-1689-000.

Applicants: Southern California Edison Company.

Description: GIA and Distribution Service Agreement with Windland Refresh, LLC to be effective 4/10/2014.

Filed Date: 4/9/14.

Accession Number: 20140409-5100.

Comments Due: 5 p.m. ET 4/30/14.

Docket Numbers: ER14-1690-000.

Applicants: Monterey SW LLC.

Description: Baseline new to be effective 4/10/2014.

Filed Date: 4/9/14.

Accession Number: 20140409-5115.

Comments Due: 5 p.m. ET 4/30/14.

Docket Numbers: ER14-1691-000.

Applicants: PJM Interconnection, L.L.C.

Description: Original Service Agreement No. 3789; Queue No. T16 to be effective 3/10/2014.

Filed Date: 4/9/14.

Accession Number: 20140409-5119.

Comments Due: 5 p.m. ET 4/30/14.

Docket Numbers: ER14-1692-000.

Applicants: American Electric Power Service Corporation.

Description: Notice of Cancellation of Substitute Rate Schedule FERC No. 21, Revised System Transmission Integration Agreement, of American Electric Power Service Corporation.

Filed Date: 4/9/14.

Accession Number: 20140409-5161.

Comments Due: 5 p.m. ET 4/30/14.

Docket Numbers: ER14-1693-000.

Applicants: ISO New England Inc., New England Power Pool Participants Committee.

Description: ISO New England Inc. submits tariff filing per 35.13(a)(2)(iii: FCM Rules Gover Timing of Res to Non-App of Non-Price Ret. Req. to be effective 6/9/2014.

Filed Date: 4/9/14.

Accession Number: 20140409-5170.

Comments Due: 5 p.m. ET 4/30/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 9, 2014.
Nathaniel J. Davis, Sr.,
Deputy Secretary.

[FR Doc. 2014-08871 Filed 4-17-14; 8:45 am]

BILLING CODE 6717-01-P